DEPARTMENT OF EDUCATION

[CFDA No. 84.220A]

Office of Postsecondary Education; Centers for International Business Education Program; Notice Inviting Applications for New Awards for Fiscal Year (FY) 2002

Purpose of Program: The Centers for International Business Education Program provides grants to eligible applicants to pay the Federal share of the cost of planning, establishing, and operating centers for international business education which—

(1) will be national resources for the teaching of improved business techniques, strategies, and methodologies which emphasize the international context in which business is transacted;

(2) will provide instruction in critical foreign languages and international fields needed to provide understanding of the cultures and customs of United States trading partners; and

(3) will provide research and training in the international aspects of trade, commerce, and other fields of study.

Eligible Applicants: Institutions of higher education and combinations of institutions of higher education.

Applications Available: September 28, 2001.

Deadline for Transmittal of Applications: November 5, 2001.

Deadline for Intergovernmental Review: January 4, 2002.

Estimated Available Funds: The Administration has requested $8,760,000 for this program for FY 2002. The actual level of funding, if any, will depend on final congressional action. However, we are inviting applications to allow enough time to process the applications and make the awards if Congress appropriates funds for this program.

Estimated Range of Awards: $220,000-$340,000.

Estimated Average Size of Awards: $312,857 per year.

Estimated Number of Awards: 28.

Note: The Department is not bound by any estimates in this notice.

Project Period: Up to 48 months.

Applicable Regulations: (a) The Education Department General Administrative Regulations (EDGAR) in 34 CFR parts 74, 75, 77, 79, 82, 85, 86, 97, 98 and 99 as applicable. (b) As there are no program-specific regulations, applicants are encouraged to read the authorizing statute for the Centers for International Business Education Program in section 612 of Title VI, Part B, of the Higher Education Act of 1965, as amended, (HEA), 20 U.S.C. 1130-1.

SUPPLEMENTARY INFORMATION: Matching requirement: Under Title VI, Part B, section 612(e)(2) of the HEA, the Federal share of the cost of planning, establishing, and operating centers under this section shall be:

(1) Not more than 90 percent for the first year in which Federal funds are received;

(2) Not more than 70 percent for the second year; and

(3) Not more than 50 percent for the third year and for each year thereafter.

(4) Applicants who have received previous grants must match 50 percent of the costs of projects for each fiscal year. The non-Federal share may be either in cash or in-kind assistance. Example: If the total cost of the proposed project is $300,000 in the first year, a new applicant can only request a grant for $270,000 or less in the first year, and must provide the remaining 10 percent ($30,000) in cash or in-kind contributions. If the total cost of the project for the second year is $350,000, the applicant can only request $245,000 or less, and must provide the remaining 30 percent ($105,000). For both the third and fourth years, if the total cost of the project is $400,000, the applicant can only request $200,000 or less, and must provide the remaining 50 percent ($200,000). All applicants who have received funding in prior years must provide 50 percent per year for each of the four years of the project.

FOR APPLICATIONS AND FURTHER INFORMATION CONTACT: Susanna Easton, Centers for International Business Education Program, U.S. Department of Education, International Education and Graduate Programs Service, 1990 K Street, NW., Suite 600, Washington, DC 20006-8521. Telephone: 202-502-7628 or via Internet: susanna.easton@ed.gov

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1130-1.

Dated: September 24, 2001.
Maureen A. McLaughlin,
Deputy Assistant Secretary for Policy, Planning and Innovation, Office of Postsecondary Education.

[FR Doc. 01-24265 Filed 9-27-01; 8:45 am]

BILLING CODE 4000-01-P